FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary:

Radiant Global Logistics, Inc., dba Radiant Container Lines, 1227 120th Avenue, NE., Bellevue, WA 98005. Officers: Michael C. von Loesch, Vice President, International (Qualifying Individual), Bohn H. Crain, President/Director.

Major Consolidation Logistics Inc., 175-01 Rockaway Blvd., Suite 201, Jamaica, NY 11434. Officer: Wei-Dong Lu, President/VP/Secretary/Treasurer, (Qualifying Individual).

PB Direct Corporation, 700 Bishop Street, #2100, Honolulu, HI 96813. Officers: Maria Elisa B. Estrada, Vice President/Treasurer, (Qualifying Individual), Emiko K. Singh, President/Secretary.

EP Standard LLC, 7 Bell Street, #408, Montclair, NJ 07042. Officers: Paul M. Pilmanis, Vice President, (Qualifying Individual), Egils Abolins, President.

ICG Worldwide, Inc., 235 Marginal Street, Chelsea, MA 02150. Officers: John Reardon, Director, (Qualifying Individual), Paul Reardon, Director.

Link Lines Logistics Inc, 234 Main Street, Unit 1, Lincoln Park, NJ 07035. Officer: Charles B. Audi, CEO/President.

Freight Forwarding Network Corp., dba Costa Rica Carriers dba Freightnet, 10925 NW. 27th Street, #201G, Doral, FL 33171. Officers: Sergio I. Lotero, President, (Qualifying Individual), Stephen A. Blass, Secretary.

Overseas Transport USA Corp., 3107 Stirling Road, #107, Fort Lauderdale, FL 33312. Officers: Paolo Caropreso, Director/President/Treasurer, (Qualifying Individual), Oliviero Caropreso, Director/Vice President.

Magna Logistics Inc., 8505 NW. 68th Street, Miami, FL 33166. Officers: Carlos Armas, Vice President/Director, (Qualifying Individual), Orlando Tavio, President/Director.

Non-Vessel-Operating Common Carrier and Ocean Freight Forwarder Transportation Intermediary:

Reliable Shipping Services Inc., 10 Fifth Street, Suite 402, Valley Stream, NY 11581. Officers: Eleonora L. Chiavelli, President, (Qualifying Individual), Giulia Chiavelli, Vice President.

Dice Worldwide Logistics, LLC dba Dice Worldwide Logistics, 8140 NW. 29th Street, Miami, FL 33122. Officers: Patrick R. Moebel, CEO, (Qualifying Individual), Bernard S. Tcharchefdjian, President.

Freights Usa, Inc., 12903 Old Richmond Road, Suite 100, Houston, TX 77099. Officer: Hanaa Hussein, President/Secretary, (Qualifying Individual).

Apollo International Forwarders, Inc., 2455 E. Sunrise Blvd., #801, Fort Lauderdale, FL 33304. Officers: Fernando Gomez, Vice President, (Qualifying Individual), Armando J. Gomez, President.

NC Cargo LLC, 7535 NW. 52nd Street, Miami, FL 33166. Officers: Lorenzo J. Colina, Managing Member, (Qualifying Individual), Aura P. Colina, Member.

Mega Supply Chain Solutions, Inc., 9449 8th Street, Rancho Cucamonga, CA 91730. Officers: Troy T.W. Kung, Vice President, (Qualifying Individual), Karen A. Pelle, CEO.

TTS Worldwide, LLC, 2611 Waterfront Parkway East Drive, Suite 100, Indianapolis, IN 46214. Officers: Katherine A. Gerard, Vice President, Nobuyuki Suzuki, President, (Qualifying Individuals).

International Shipping Network Line, LLC, dba ISN Line, 4701 Clark Street, Boise, ID 83705. Officers: Bryan Treadwell, Manager, (Qualifying Individual), Summer Treadwell, Member.

Cayman Consolidators, Inc., 74 NW. 25th Avenue, Miami, FL 33125. Officer: Alberto Diaz Rodriguez, President/Sec./Treasurer, (Qualifying Individual).

Lozada Corporation dba Lozada Transportation Services, 6526 Arlington Boulevard, Falls Church, VA 22042. Officers: Cristian K. Montecinos, Secretary, (Qualifying Individual), Cesar Montecinos, President/Treasurer.

Trips Logistics Corp, 6 Morgan Drive, Methuen, MA 01844. Officer: Amale S. Najjar, President/Treasurer/Secretary, (Qualifying Individual).

Global Container Line, Inc. dba Global Container Line, 1930 6th Avenue South, #401, Seattle, WA 98134. Officers: Sarah Dorscht, Senior Vice President, (Qualifying Individual), Jason Totah, President/CEO.

Barthco International, Inc. dba OHL-International, 5101 S. Broad Street, Philadelphia, PA 19112. Officers: Alberto B. Benki, Senior Vice President, (Qualifying Individual), Scott McWilliams, CEO.

Mallory Alexander International Logistics, LLC, dba TradeSource, 1 Cordes Street Charleston, SC 29401. Officers: W. Neely Mallory, III, President, (Qualifying Individual), W. Neely Mallory, Jr., CEO.

Ocean Freight Forwarder—Ocean Transportation Intermediary:

Jeffery Raymond Sewell dba Cargo Unlimited Worldwide, 74-854 Velie Way, #10, Palm Desert, CA 92260. Officer: Jeffery R. Sewell, Sole Proprietor, (Qualifying Individual).

Razak Logistics, Inc., 28451 Ficus Court, Murrieta, CA 92563. Officer: Farhan Qureshi, President/Secretary/Treasurer, (Qualifying Individual).

U.S. Africa Freight, Inc. dba U.S. Africa Shipping, dba U.S. 2 Africa Freight, 930 Hoffner Avenue, Orlando, FL 32809. Officers: Esthela Montgomery, Secretary/Operations Manager, (Qualifying Individual), Neil E. Barclay, Director/Treasurer.

Dated: March 19, 2010.
Rachel E. Dickon,
Assistant Secretary.

[FR Doc. 2010-6557 Filed 3-23-10; 8:45 am]

BILLING CODE 6730-01-P